DEPARTMENT OF DEFENSE

GENERAL SERVICES ADMINISTRATION

NATIONAL AERONAUTICS AND SPACE ADMINISTRATION

48 CFR Parts 1, 6, 13, 25, and 52

[FAC 2001-18; Item VIII]

Federal Acquisition Regulation; Technical Amendments

AGENCIES: Department of Defense (DoD), General Services Administration (GSA), and National Aeronautics and Space Administration (NASA).

ACTION: Final rule.

SUMMARY: This document makes amendments to the Federal Acquisition Regulation (FAR) in order to update references and make editorial changes.

DATES: Effective Date: December 11, 2003.

FOR FURTHER INFORMATION CONTACT: The FAR Secretariat, Room 4035, GS Building, Washington, DC 20405, (202) 501-4755, for information pertaining to status or publication schedules. Please cite FAC 2001-18, Technical Amendments.

List of Subjects in 48 CFR Parts 1, 6, 13, 25, and 52

Government procurement.

Dated: December 4, 2003.
Laura Auletta,
Director, Acquisition Policy Division.

Therefore, DoD, GSA, and NASA amend 48 CFR parts 1, 6, 13, 25, and 52 as set forth below:

1. The authority citation for 48 CFR parts 1, 6, 13, 25, and 52 is revised to read as follows:

Authority: 40 U.S.C. 121(c); 10 U.S.C. chapter 137; and 42 U.S.C. 2473(c).

PART 1—FEDERAL ACQUISITION REGULATIONS SYSTEM

1.201-1 [Amended]

2. Amend section 1.201-1 in paragraph (b)(1) by adding “Homeland Security,” after “Health and Human Services,”.

PART 6—COMPETITION REQUIREMENTS

6.302-7 [Amended]

3. Amend section 6.302-7 in paragraph (c)(1)(i) by removing “Transportation” and adding “Homeland Security” in its place.

PART 13—SIMPLIFIED ACQUISITION PROCEDURES

13.500 [Amended]

4. Amend section 13.500 in the first sentence of paragraph (d) by removing “2004” and adding “2006” in its place.

PART 25—FOREIGN ACQUISITION

25.701 [Amended]

5. Amend section 25.701 in the second sentence of paragraph (b) by removing “http://www.epls.gov/Terlist1.html” and adding “http://www.epls.gov/TerList1.html” in its place.

PART 52—SOLICITATION PROVISIONS AND CONTRACT CLAUSES

52.204-7 [Amended]

6. Amend section 52.204-7 in Alternate I by removing “4.1104(a)” and adding “4.1104” in its place.

52.211-2 [Amended]

7. Amend section 52.211-2 in the provision heading by removing “(Dec 1999)” and adding “(Jan 2004)” in its place; in paragraph (a) by removing “http://assist.daps.mil” and adding “http://assist.daps.dla.mil” in its place; and in paragraph (b) by removing “(215) 697-2667/2179” and adding “(215) 697-2179” in its place.

52.225-13 [Amended]

8. Amend section 52.225-13 in the clause heading by removing “(Oct 2003)” and adding “(Jan 2004)” in its place; and in the second sentence of paragraph (b) of the clause by removing “http://www.epls.gov/Terlist1.html” and adding “http://www.epls.gov/TerList1.html” in its place.

[FR Doc. 03-30479 Filed 12-10-03; 8:45 am]

BILLING CODE 6820-EP-P